DEPARTMENT OF ENERGY

Federal Energy Regulatory Commission

Combined Notice of Filings #1

Take notice that the Commission received the following electric corporate filings:

Docket Numbers: EC19-14-000.

Applicants: Fawkes Holdings, LLC, Wheelabrator Technologies Inc.

Description: Joint Application for Authorization Under Section 203 of the Federal Power Act, et al. of Wheelabrator Technologies Inc., et al.

Filed Date: 10/19/18.

Accession Number: 20181019-5233.

Comments Due: 5 p.m. ET 11/9/18.

Docket Numbers: EC19-15-000.

Applicants: Bishop Hill Energy III LLC, Bishop Hill Interconnection LLC.

Description: Joint Application for Authorization Under Section 203 of the Federal Power Act, et al. of Bishop Hill Energy III LLC, et al.

Filed Date: 10/19/18.

Accession Number: 20181019-5235.

Comments Due: 5 p.m. ET 11/9/18.

Take notice that the Commission received the following electric rate filings:

Docket Numbers: ER16-1609-002.

Applicants: ID SOLAR 1, LLC.

Description: Compliance filing: ID Solar 1 Notice of Change in Status to be effective 10/23/2018.

Filed Date: 10/22/18.

Accession Number: 20181022-5097.

Comments Due: 5 p.m. ET 11/13/18.

Docket Numbers: ER18-2339-001.

Applicants: Midcontinent Independent System Operator, Inc.

Description: Tariff Amendment: 2018-10-22_SA 3152 Polaris Wind Energy-METC GIA (J533) Substitute Original to be effective 8/15/2018.

Filed Date: 10/22/18.

Accession Number: 20181022-5077.

Comments Due: 5 p.m. ET 11/13/18.

Docket Numbers: ER19-150-000.

Applicants: MidAmerican Energy Company.

Description: § 205(d) Rate Filing: Concurrence filing for Prairie Wind Remote LBA Gen. Interchange Agt. to be effective 10/15/2018.

Filed Date: 10/19/18.

Accession Number: 20181019-5157.

Comments Due: 5 p.m. ET 11/9/18.

Docket Numbers: ER19-151-000.

Applicants: MATL LLP.

Description: § 205(d) Rate Filing: Open Solicitation Filing to be effective 10/23/2018.

Filed Date: 10/22/18.

Accession Number: 20181022-5039.

Comments Due: 5 p.m. ET 11/13/18.

Docket Numbers: ER19-152-000.

Applicants: Arizona Public Service Company.

Description: Notice of Cancellation of Transmission Service Agreement No. 132 of Arizona Public Service Company.

Filed Date: 10/19/18.

Accession Number: 20181019-5239.

Comments Due: 5 p.m. ET 11/9/18.

Docket Numbers: ER19-153-000.

Applicants: Alabama Power Company.

Description: § 205(d) Rate Filing: Cooperative Energy NITSA Amendment (Remove West Hattiesburg DP) to be effective 10/1/2018.

Filed Date: 10/22/18.

Accession Number: 20181022-5136.

Comments Due: 5 p.m. ET 11/13/18.

Docket Numbers: ER19-154-000.

Applicants: Southern California Edison Company.

Description: § 205(d) Rate Filing: Agreement for Interconnection of the Harry Allen to Eldorado 500kV Line to be effective 10/23/2018.

Filed Date: 10/22/18.

Accession Number: 20181022-5137.

Comments Due: 5 p.m. ET 11/13/18.

Docket Numbers: ER19-155-000.

Applicants: Duke Energy Carolinas, LLC.

Description: § 205(d) Rate Filing: DEC-DEP As-Available Capacity Agreement to be effective 12/22/2018.

Filed Date: 10/22/18.

Accession Number: 20181022-5144.

Comments Due: 5 p.m. ET 11/13/18.

Take notice that the Commission received the following qualifying facility filings:

Docket Numbers: QF19-129-000.

Applicants: Flint Hills Resources Pine Bend, LLC.

Description: Form 556 of Flint Hills Resources Pine Bend, LLC.

Filed Date: 10/12/18.

Accession Number: 20181012-5240.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2018.
Nathaniel J. Davis, Sr.,
Deputy Secretary.

[FR Doc. 2018-23441 Filed 10-25-18; 8:45 am]

BILLING CODE 6717-01-P